DEPARTMENT OF LABOR

Mine Safety and Health Administration

30 CFR 56 and 75

[Docket No. MSHA-2018-0016]

RIN 1219-AB91

Safety Improvement Technologies for Mobile Equipment at Surface Mines, and for Belt Conveyors at Surface and Underground Mines

AGENCY: Mine Safety and Health Administration, Labor.

ACTION: Announcement of public stakeholder meetings.

SUMMARY: The Mine Safety and Health Administration (MSHA) is announcing the dates and locations of public stakeholder meetings on the Agency's Request for Information on Safety Improvement Technologies for Mobile Equipment at Surface Mines, and for Belt Conveyors at Surface and Underground Mines.

DATES: Comments must be received or postmarked by midnight Eastern Standard Time on December 24, 2018. The meeting dates and locations are listed in the SUPPLEMENTARY INFORMATION section of this document.

ADDRESSES: Federal Register Publications: Access documents electronically at http://www.msha.gov/regsinfo.htm or http://www.regulations.gov [Docket No. MSHA-2018-0016].

FOR FURTHER INFORMATION CONTACT: Sheila A. McConnell, Director, Office of Standards, Regulations, and Variances, MSHA, at mcconnell.sheila.a@dol.gov (email), 202-693-9440 (voice), or 202-693-9441 (fax). These are not toll-free numbers.

SUPPLEMENTARY INFORMATION:

I. Stakeholder Meetings

MSHA will hold six public stakeholder meetings and one webinar on the Agency's Request for Information (RFI) addressing Safety Improvement Technologies for Mobile Equipment at Surface Mines, and for Belt Conveyors at Surface and Underground Mines. The meetings will be conducted in an informal manner. Presenters and attendees may provide written information to the court reporter for inclusion in the record. MSHA will make transcripts of the meetings available at http://www.regulations.gov and on MSHA's website at: https://arlweb.msha.gov/currentcomments.asp.

Interested parties may attend these stakeholder meetings either in-person or by participating by webinar (See table below).

1. To attend the stakeholder meeting in Arlington, Virginia:

• Address—201 12th Street South, Arlington, Virginia 22202.

• When you enter the building, take the East elevators to your right, up to the 4th Floor reception area, 4E401, to check in. You will then be escorted to the conference room.

• Nearest metro stations: Pentagon City, and Crystal City. Parking is available on the street and in the building.

2. To participate at the Webinar by Phone or WebEx:

By Phone—

• Dial the toll-free conference number (Verizon): 1-866-718-1874.

• Attendee access code: 242 716 6.

By WebEx—

• To log into the Webinar, go to: https://dol.webex.com.

• Enter Meeting number: 642 399 450.

• Meeting password: M!ne2018.

A. Stakeholder Meetings

Safety Improvement Technologies for Mobile Equipment at Surface Mines, and for Belt Conveyors at Surface and Underground Mines Stakeholder Meetings
[Dates, times, and locations]
Date/time | Location | Contact No.
August 7, 2018, 9 a.m. Central Time | Sheraton Birmingham Hotel, 2101 Richard Arrington Jr. Blvd. N, Birmingham, Alabama 35203 | 205-324-5000
August 9, 2018, 9 a.m. Central Time | DoubleTree by Hilton Hotel, Dallas-Market Center, 2015 Market Center Blvd., Dallas, Texas 75207 | 214-741-7481
August 16, 2018, 11 a.m. Eastern Time | Webinar | 202-693-9440
August 21, 2018, 9 a.m. Pacific Time | Renaissance Reno Downtown Hotel, One South Lake Street, Reno, Nevada 89501 | 775-682-3900
September 11, 2018, 9 a.m. Eastern Time | National Mine Health and Safety Academy, 1301 Airport Road, Beckley, West Virginia 25813 (Auditorium) | 304-256-3100
September 20, 2018, 9 a.m. Eastern Time | Hilton Albany, 40 Lodge Street, Albany, New York 12207 | 518-462-6611
September 25, 2018, 9 a.m. Eastern Time | Mine Safety and Health Administration (Headquarters), 201 12th Street South, 4E401, Arlington, Virginia 22202 | 202-693-9440

II. Background

On June 26, 2018, (83 FR 29716), MSHA published an RFI on Safety Improvement Technologies for Mobile Equipment at Surface Mines, and for Belt Conveyors at Surface and Underground Mines. MSHA is soliciting stakeholder comments, data and information on technologies that can reduce accidents involving mobile equipment at surface mines and belt conveyors at surface and underground mines. Specifically, the Agency is requesting information from the mining community regarding the types of engineering controls available, how to implement such engineering controls, and how these controls could be used in mobile equipment and belt conveyors to reduce accidents, fatalities and injuries. MSHA is also seeking suggestions from stakeholders on best practices, training materials, policies and procedures, innovative technologies, and any other information that stakeholders may have available to improve safety in and around mobile equipment, and working near and around belt conveyors. The meetings will provide the mining community an opportunity to discuss and share information about the issues raised in the RFI. Comments must be received or postmarked by midnight Eastern Standard Time on December 24, 2018.

David G. Zatezalo,
Assistant Secretary of Labor for Mine Safety and Health.

[FR Doc. 2018-15808 Filed 7-24-18; 8:45 am]

BILLING CODE 4520-43-P